DEPARTMENT OF EDUCATION

[Docket No.: ED-2023-SCC-0036]

Agency Information Collection Activities; Comment Request; Impact Evaluation To Inform the Teacher and School Leader Incentive Program

AGENCY: Institute of Education Science (IES), Department of Education (ED).

ACTION: Notice.

SUMMARY: In accordance with the Paperwork Reduction Act (PRA) of 1995, the Department is proposing an extension without change of a currently approved information collection request (ICR).

DATES: Interested persons are invited to submit comments on or before April 25, 2023.

ADDRESSES: To access and review all the documents related to the information collection listed in this notice, please use http://www.regulations.gov by searching the Docket ID number ED-2023-SCC-0036. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Elizabeth Wilde, (202) 245-6122.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Evaluation to Inform the Teacher and School Leader Incentive Program.

OMB Control Number: 1850-0950.

Type of Review: Extension without change of a currently approved ICR.

Respondents/Affected Public: State, Local, and Tribal Governments.

Total Estimated Number of Annual Responses: 1,995.

Total Estimated Number of Annual Burden Hours: 853.

Abstract: Congress mandated that IES conduct an independent evaluation of the Teacher and School Leader Incentive Program (TSL), which supports a variety of strategies aimed at improving the quality of teaching and attracting and retaining effective educators. In response to the legislative mandate to evaluate the TSL program, the first evaluation component addresses the need to understand the characteristics of districts that received TSL grants and the key strategies they are using to improve educator effectiveness and student achievement. The focus of the second evaluation component arises from a need to assess effectiveness, focusing on a single, common strategy of designating teacher leaders to provide coaching to other teachers. This strategy of focusing on a single, common strategy of grantees is part of an evidence-building strategy for the program that complements evidence on other aspects of the grant that have been previously evaluated. More research is needed to provide guidance on whether this teacher leader strategy improves teacher effectiveness and student achievement. The second component of the evaluation uses a random assignment design to study the impacts (and implementation and cost-effectiveness) of the teacher leader role in non-TSL districts.

Dated: February 17, 2023.
Juliana Pearson,
PRA Coordinator, Strategic Collections and Clearance, Governance and Strategy Division, Office of Chief Data Officer, Office of Planning, Evaluation and Policy Development.

[FR Doc. 2023-03792 Filed 2-23-23; 8:45 am]

BILLING CODE 4000-01-P